DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 14, 2019.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington, DC, or at http://regulations.gov.

This notice of receipt of applications for special permit is published in accordance with part 107 of the Federal hazardous materials transportation law (49 U.S.C. 5117(b); 49 CFR 1.53(b)).

Issued in Washington, DC, on December 7, 2018.
Donald P. Burger,
Chief, General Approvals and Permits Branch.

Application No. | Applicant | Regulation(s) affected | Nature of the special permits thereof
Special Permits Data
20802-N | EXXON MOBIL CORPORATION | 173.242(c) | To authorize the transportation in commerce of a Division 4.2 material in 35 non-DOT specification portable tanks conforming to the requirements of a UN T21 portable tank except for the thickness of the bottom conical head. (modes 1, 2, 3)
20803-N | HYPERCOMP ENGINEERING, INC | 173.302a(a)(1) | To authorize the manufacture, mark, sale, and use of a non-DOT specification composite overwrapped pressure vessel containing hydrogen. (modes 1, 2, 3, 4)
20804-N | HYPERCOMP ENGINEERING, INC | 173.302a(a)(1) | To authorize the manufacture, mark, sale, and use of non-DOT specification composite overwrapped pressure vessels containing oxygen. (modes 1, 2, 3, 4)
20805-N | LG CHEM | 172.101(j) | To authorize the transportation in commerce of lithium batteries exceeding 35 kg by cargo-only aircraft. (mode 4)
20806-N | JAGUAR INSTRUMENTS INC | 173.302a(a)(1), 173.304a(a)(1) | To authorize the manufacture, mark, sale, and use of non-DOT specification nickel copper alloy 400 cylinders. (modes 1, 2, 3, 4)
20808-N | INNOPHOS, INC | 178.504(b)(9) | To authorize the transportation in commerce of UN 1A1 drums containing polyphosphoric acid in quantities that exceed the maximum mass authorize for steel drums. (mode 1)
20814-N | SAFT AMERICA INC | 172.101(j) | To authorize the transportation in commerce of lithium batteries with a net greater than 35 kg aboard cargo-only aircraft. (mode 4)

[FR Doc. 2018-27110 Filed 12-13-18; 8:45 am]

BILLING CODE 4909-60-P